DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Now is the Time (NITT)—Project AWARE Evaluation—Site Notification and Recruitment—New

SAMHSA is conducting a national evaluation of the Now is the Time (NITT) initiative, which includes separate programs—NITT Project AWARE (Advancing Wellness and Resilience in Education)-State Educational Agency (SEA), Healthy Transitions, and two Minority Fellowship Programs (Youth and Addictions Counselors). These programs are united by their focus on capacity building, system change, and workforce development.

NITT—Project AWARE, which is the focus of this activity, represents a response to the third and fourth components of President Obama's NITT Initiative: making schools safer and focusing on access to mental health services. NITT—Project AWARE is authorized under Section 520A of the Public Health Service Act, as amended, and addresses the Healthy People 2020 Mental Health and Mental Disorders Topic Area. Project AWARE grantees are required to provide mental health awareness training to adults who interact with youth, create partnerships to connect youth to mental health services, and create a school climate to reduce violence. NITT—Project AWARE grants were made to 20 state education agencies, each of which will partner with 3-5 local education agencies (LEAs or school districts) in their state to plan and implement Project AWARE activities. Project AWARE activities may be implemented in all schools in the district or may be focused on a specific type or number of schools.

The evaluation of NITT—Project AWARE will examine the process, outcomes, and impact of activities by SEA grantees and their LEA and school partners. The study will evaluate the capacity of SEAs to increase awareness of mental health issues among school-aged youth; provide training for school personnel and other adults who interact with youth to detect and respond to mental illness in children and young adults; connect children, youth, and families/caregivers who may have behavioral health issues with appropriate services; and improve conditions for learning and behavioral health outcomes for all school-aged youth (grades K-12). At the grantee, district, and school levels, the evaluation will collect data from key staff in all partner organizations. At each Project AWARE and comparison school, annual surveys will be used to collect data from the school principal (or designee), students, and teachers, beginning in spring 2016. The NITT—Project AWARE evaluation will also rely on information collected from existing sources or noted in award requirements.

Site notification and recruitment of Project AWARE grantees and their school and district partners is being conducted for the purpose of enlisting sites for participation in the Project AWARE component of the NITT evaluation. Site notification and recruitment will be conducted in school year 2015-2016. Data collection is planned to begin in spring 2016. Subsequent OMB packages will be submitted separately for each of the three program evaluations (i.e., Project AWARE, Healthy Transitions, MFP—Youth & Addiction Counselors) in fall 2015, requesting approval for instruments and data collection procedures.

Current activities are focused on notification and recruitment of state grantees, grantee and nongrantee districts, and grantee and nongrantee schools. Each grantee state will be asked to support the evaluation by encouraging the grantee districts to cooperate with the national evaluation contractor when contacted, enlist the participation of grantee schools, and provide access to data available through the district's management information system (MIS). Each grantee district will also be asked to assist the study with identifying and encouraging the participation of comparison (i.e, nongrantee) schools, where possible. For each treatment (i.e., Project AWARE) school, one matched comparison school will be identified that is similar to the treatment school in terms of demographic characteristics and rates of incidents of violence and other measures but is not implementing Project AWARE activities. Both treatment and comparison schools will be asked to participate in the school, teacher, and student surveys (teachers and students) and data abstraction from the schools' MIS system.

If a comparison school cannot be identified or recruited from the same grantee district as the treatment school, an attempt will be made to recruit nongrantee districts and schools in a neighboring community where potential matched schools have been identified.

During site notification and recruitment, the evaluation contractor will send packets that include a letter, brochure, and frequently asked questions, and will follow up with a telephone call. The following entities will be contacted:

• All 20 NITT—Project AWARE grantees at the state level

• An estimated 90 local education agency partners (3-5 districts per state, under the grant requirements).

• An estimated 396 schools in grantee districts that will be implementing Project AWARE activities (“treatment schools”) (approximately 4-5 schools per grantee district are expected to participate in the evaluation). This estimate includes additional schools that may need to be contacted to replace grantee schools that are unable or unwilling to participate.

• An estimated 432 schools in grantee districts that are NOT currently implementing Project AWARE activities (“comparison schools”). This estimate includes additional schools that may need to be contacted to replace comparison schools that are unable or unwilling to participate.

• Approximately 30 nongrantee districts will be identified and recruited as needed if no comparison school is available in a grantee district to form a matched pair with a treatment school.

• Approximately 90 comparison schools in nongrantee districts will be identified and recruited as needed to form a matched pair for treatment schools with no comparison school available. For each treatment school without a comparison school, one best match and two alternates will be identified in each of the 30 districts.

The table below summarizes the reporting burden associated with this notification and recruitment activity. The total burden is 1,058 hours.

Respondent | Number of respondents | Responses per respondent | Total number of responses | Hours per response | Total burden hours
State grantee official | 20 | 1 | 20 | 1 | 20
District official in grantee district | 90 | 1 | 90 | 1 | 90
School official in grantee district—treatment school | 396 | 1 | 396 | 1 | 396
School official in grantee district—comparison school | 432 | 1 | 432 | 1 | 432
District official in nongrantee district | 30 | 1 | 30 | 1 | 30
School official in nongrantee district | 90 | 1 | 90 | 1 | 90
Total | 1,058 |  | 1,058 |  | 1,058

Written comments and recommendations concerning the proposed information collection should be sent by January 21, 2016 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-32061 Filed 12-21-15; 8:45 am]

BILLING CODE 4162-20-P